DEPARTMENT OF JUSTICE

Notice of Lodging of Proposed Consent Decrees Under the Comprehensive Environmental Response, Compensation, and Liability Act (CERCLA), the Clean Water Act (CWA), and the Oil Pollution Act (OPA)

On November 1, 2023, the Department of Justice lodged two proposed consent decrees with the United States District Court for the District of Oregon in the lawsuit entitled United States of America et al. v. ACF Industries LLC, et al., Civil Action No. 3:23-cv-1603 (D. Or.).

The complaint asserts claims for natural resource damages by the United States on behalf of the National Oceanic and Atmospheric Administration and the Department of the Interior; the State of Oregon; the Confederated Tribes of the Grand Ronde Community of Oregon; the Confederated Tribes of Siletz Indians; the Confederated Tribes of the Umatilla Indian Reservation; the Confederated Tribes of the Warm Springs Reservation of Oregon; and the Nez Perce Tribe (collectively, the “Natural Resource Trustees”) pursuant to the section 107(a) of the Comprehensive Environmental Response, Compensation, and Liability Act (CERCLA), 42 U.S.C. 9607(a); section 311 of the Clean Water Act (CWA), 33 U.S.C. 1321; section 1002(b) of the Oil Pollution Act (OPA), 33 U.S.C. 2702(b); the Oregon Hazardous Waste and Hazardous Materials Act, ORS section 465; and ORS section 468B.060.

The proposed consent decrees settle claims for natural resource damages caused by hazardous substances released from defendants' facilities along the Willamette River. Under the proposed consent decrees, the defendants will pay cash and/or purchase restoration credits in one or more restoration projects approved by the Natural Resource Trustees to create habitat for injured natural resources, including various species of fish and birds. Defendants also must make payments for the public's lost recreational use of the river, for monitoring of culturally significant plants and animals, and for reimbursement of the Natural Resource Trustees' costs. Restoration project developers also are parties to the consent decree under which some defendants purchase restoration credits in those projects. The restoration project developers are required to develop their restoration projects, permanently protect the restoration project sites, and arrange for long-term stewardship of each restoration project. The Natural Resource Trustees will provide defendants with covenants not to sue under the authorities listed in the complaint and proposed consent decree for specified natural resource damages.

The publication of this notice opens a period for public comment on the proposed Consent Decrees. Comments on the proposed Consent Decrees should be addressed to the Assistant Attorney General, Environment and Natural Resources Division, and should refer to United States of America et al. v. ACF Industries LLC, et al., D.J. Ref. No. 90-11-2-06787/2. All comments must be submitted no later than forty-five (45) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Consent Decrees may be examined and downloaded at this Justice Department website: https://www.justice.gov/enrd/consent-decree/us-et-al-v-acf-industries-llc-et-al. Please note that this website contains the corrected version of the cash-out consent decree but not the version originally lodged with the court. The corrected version of the cash-out consent decree adds a legal entity for one of the settling defendants that inadvertently was omitted but does not change the scope of the operations covered by the consent decree or the amounts to be paid under the consent decree. Please refer to the corrected version of the cash-out consent decree when submitting comments. We will provide a paper copy of the Consent Decrees upon written request and payment of reproduction costs. Please mail your request and payment to: Consent Decree Library, U.S. DOJ—ENRD, P.O. Box 7611, Washington, DC 20044-7611.

Please enclose a check or money order for $45.25 (without attachments) or $631.25 (with attachments) (25 cents per page reproduction cost) payable to the United States Treasury.

Kathryn C. Macdonald,
Assistant Section Chief, Environmental Enforcement Section, Environment and Natural Resources Division.

[FR Doc. 2023-25023 Filed 11-13-23; 8:45 am]

BILLING CODE 4410-15-P